DEPARTMENT OF COMMERCE

National Oceanic and Atmospheric Administration

Notice of Approval of the Final Management Plan for the Hudson River National Estuarine Research Reserve

AGENCY: Office for Coastal Management, National Ocean Service, National Oceanic and Atmospheric Administration, U.S. Department of Commerce.

ACTION: Public notice.

SUMMARY: Notice is hereby given that the Office for Coastal Management, National Ocean Service, National Oceanic and Atmospheric Administration, U.S. Department of Commerce approves the revised Management Plan for the Hudson River National Estuarine Research Reserve, which is comprised of four component sites along the Hudson River in New York. In accordance with applicable Federal regulations, the New York State Department of Environmental Conservation revised its management plan. The revised Management Plan will replace the plan previously approved in 2009. View the approved Hudson River, NY, National Estuarine Research Reserve Management Plan at https://coast.noaa.gov/data/docs/nerrs/Reserves_HUD_MgmtPlan.pdf .

FOR FURTHER INFORMATION CONTACT: Nina Garfield of NOAA's Office for Coastal Management, by email at nina.garfield@noaa.gov, phone at 240-533-0817, or mail at: 1305 NOAA, NOS, OCM, East West Highway, SSMC4, Silver Spring, MD 20919.

SUPPLEMENTARY INFORMATION: Pursuant to 15 CFR 921.33, a state must periodically revise its Reserve management plan, changes to the final management plan may be made only after written approval by NOAA, and NOAA will approve amendments to management plans by notice in the Federal Register. On March 6, 2019, NOAA issued a notice in the Federal Register announcing a thirty-day public comment period for the Hudson River National Estuarine Research Reserve revised management plan (84 FR 8087). Responses to the written and oral comments received, and an explanation of how comments were incorporated into the final revised plan, are available in Appendix 10 of the revised plan.

The Hudson River National Estuarine Research Reserve has outlined in the revised Management Plan how it will manage administration and its core program providing detailed actions that will enable it to accomplish specific goals and objectives. Since 2009, the Hudson River National Estuarine Research Reserve has provided technical expertise to coastal communities to reduce risks to natural hazards; expanded monitoring programs; installed a sentinel site for monitoring marsh ecosystem responses to sea level rise; conducted training workshops; implemented K-12 and public education programs; installed a water level observation station that is compliant with NOAA's National Water Level Observation Network; restored hydrologic flows at Gays Point in the Stockport Flats component; and established itself as a regional leader in the design and implementation of living shorelines.

The revised Management Plan updates the former plan with accomplishments since 2009, and identifies new priorities that will guide the Hudson River National Estuarine Research Reserve's operations through 2024. Facility priorities include improvements to exhibits and access to the visitor center; the provision of lodging options for interns, students, and visiting professionals; enhancements to trails; upgraded access for researchers and recreational users at component sites; the assessment of existing and potentially new living shoreline structures at component sites; and the evaluation of facility resilience to climate change. Education priorities include the continuation of teacher training and public outreach offerings; the implementation of distance learning strategies to reach expanded audiences; the inclusion of new topics to the education curriculum including marine debris and microplastics, climate change, estuarine monitoring, and restoration; and the expansion of educational programs to component sites. The Coastal Training Program (CTP) priorities are to continue to address nature-based shoreline conservation efforts and lead a statewide collaboration on living shorelines. The research and monitoring priorities are to conduct research relevant to the Hudson River and broader mid-Atlantic region; continue implementation and analysis of the National Estuarine Research Reserve System Sentinel Site monitoring protocols; and maintain the Hudson River Environmental Conditions Observing System water quality stations and the Turkey Point Tide Station. The stewardship priorities will support restoration efforts identified in the Hudson River Restoration Plan; provide technical assistance to restoration practitioners; control invasive species in the Hudson River National Estuarine Research Reserve habitats; promote fish passage; and acquire remaining holdings in the Hudson River National Estuarine Research Reserve.

NOAA has reviewed the impacts of the revised Management Plan and determined that the revision of the Management Plan will not have a significant effect on the human environment and therefore qualifies for a categorical exclusion under NOAA Administrative Order 216-6.

Keelin S. Kuipers,
Deputy Director, Office for Coastal Management, National Ocean Service, National Oceanic and Atmospheric Administration.

[FR Doc. 2020-04732 Filed 3-6-20; 8:45 am]

BILLING CODE 3510-08-P